DEPARTMENT OF THE INTERIOR

U.S. Geological Survey

[GX16EF00PMEXP00]

Agency Information Collection Activities: Request for Comments

AGENCY: U.S. Geological Survey (USGS), Department of the Interior.

ACTION: Notice of revision to a currently approved information collection, (1028-0092).

SUMMARY: We (the U.S. Geological Survey) are notifying the public that we have submitted to the Office of Management and Budget (OMB) the Information Collection Request (ICR) described below. To comply with the Paperwork Reduction Act of 1995 (PRA) and as part of our continuing efforts to reduce paperwork and respondent burden, we invite the general public and other Federal agencies to take this opportunity to comment on this ICR. This collection is scheduled to expire on September 30, 2016.

DATES: To ensure that your comments on this ICR are considered, OMB must receive them on or before October 31, 2016.

ADDRESSES: Please submit written comments on this information collection directly to the Office of Management and Budget (OMB), Office of Information and Regulatory Affairs (OIRA), Attention: Desk Officer for the Department of the Interior, via email: (OIRA_SUBMISSION@omb.eop.gov); or by fax (202) 395-5806; and identify your submission with `OMB Control Number 1028-0092 The National Map: Topographic Data Grants Program.' Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0092: The National Map: Topographic Data Grants Program' in all correspondence.

FOR FURTHER INFORMATION CONTACT: Anthony Martin, National Geospatial Program, U.S. Geological Survey, 12201 Sunrise Valley Drive, Mail Stop 511, Reston, VA 20192 (mail); 703-648-4542 (phone); or amartin@usgs.gov (email). You may also find information about this ICR at www.reginfo.gov.

SUPPLEMENTARY INFORMATION:

I. Abstract

The National Geospatial Program (NGP) of the U.S. Geological Survey (USGS) contributes funding for the collection of geospatial data which increases the development of The National Map and other national geospatial databases. NGP will accept applications from Private Industry, state, local or tribal Governments to supplement current data collection programs in order to fulfill the growing and present need for current and accurate geospatial data. Awarded projects must complete brief monthly progress reports and a final technical report at the end of the project period. All application instructions and forms are available on Grants.gov (http://www.grants.gov). All reports will be accepted electronically via email.

II. Data

OMB Control Number: 1028-0092.

Form Number: N/A.

Title: The National Map: Topographic Data Grants Program.

Type of Request: Revision of a currently approved information collection.

Respondent Obligation: Required to obtain or retain benefits.

Frequency of Collection: Annually and monthly.

Description of Respondents: State, Local, Tribal Government; and Private Industry.

Estimated Total Number of Annual Responses: We estimate 280 responses will be covered under this collection that includes the initial responses, the monthly, and final reports from the awarded. 75 of these reports will come from Private Industry and 205 reports from State, Local and Tribal Governments.

Estimated Time per Response: The U.S. Geological Survey (USGS) foresees 61 hours of time will be needed to complete the necessary submissions which will include the narrative and supporting documentation. We believe that reading the requirements as well as development, proposal writing, reviewing and submission of the proposal application via Grants.gov will require 61 hours per applicant. Monthly and final project reports must be submitted by the award recipient. The prior month's progress must be submitted within the report 7 days following the start of the new month. The monthly report will take at least 1 hour to prepare. The final report must be submitted within 90 calendar days of the end of the project period. USGS estimates that approximately 20 hours will be needed to complete the final report.

Estimated Annual Burden Hours: When calculating the total number of hours that will be used including State, local, tribal and private respondents 3060 hours will be needed.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On 4/29/2016, we published a 81 Federal Register Notice 25690/Friday, April 29, 2016. Notices announcing that we would submit this ICR to OMB for approval and soliciting comments. The comment period closed on 6/28/2016. We received no comments.

III. Request for Comments

We again invite comments concerning this ICR as to: (a) Whether the proposed collection of information is necessary for the agency to perform its duties, including whether the information is useful; (b) The accuracy of the agency's estimate of the burden of the proposed collection of information; (c) How to enhance the quality, usefulness, and clarity of the information to be collected; and (d) How to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Julia Fields,
Deputy Director, National Geospatial Program.

[FR Doc. 2016-23471 Filed 9-28-16; 8:45 am]

BILLING CODE 4338-11-P